DEPARTMENT OF VETERANS AFFAIRS

[OMB Control No. 2900-NEW]

Agency Information Collection Activity: Veterans Child Care Assistance Program (VCAP)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. DATES: Comments must be received on or before October 7, 2024.

ADDRESSES: Comments must be submitted through www.regulations.gov.

FOR FURTHER INFORMATION CONTACT:

Program-specific information: Rebecca Mimnall, 202-695-9434, vhacopra@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Veterans Child Care Assistance Program (VCAP) (VA Forms 10-380, 10-381, 10-382).

OMB Control Number: 2900-NEW. https://www.reginfo.gov/public/do/PRASearch (Once at this link, you can enter the OMB Control Number to find the historical versions of this Information Collection.)

Type of Review: New collection.

Abstract: The Veterans Child Care Assistance Program (VCAP) was established via Public Law 116-315, Section 5107a, of the Johnny Isakson and David P. Roe, M.D. Veterans Health Care and Benefits Improvement Act of 2020. Section 5107a provided permanent authority in 38 United States Code Section 1709C for VA to provide child care assistance to certain veterans receiving health care at VA medical facilities. This child care assistance is provided solely for the time period of the veteran's health care appointment.

VA intends to collect appropriate information from veterans in order to establish eligibility and intent to utilize VCAP. VA facilities with onsite drop-in child care centers will be able to access the current VA systems to verify veteran name and SSN for eligibility, but must maintain their contact information and the child's information for use in the child care setting for emergency and safety reasons. This information also will be used for auditing and validation purposes in the reimbursement system for those veterans submitting claims for financial reimbursement of child care expenses. Such verification is necessary to pay allowable claims, as well as monitor and prevent fraudulent claims.

VA Form 10-380—VCAP Child Registration Intake Form: The eligible veteran will complete this form to register the child or children who will be cared for on VA premises for the duration of the veteran's health care appointment.

VA Form 10-381—VCAP Appointment Certification Form: The veteran individual will complete this form to attest they are attending a certified appointment and have a qualifying veteran-child relationship for the purpose of establishing eligibility for child care assistance.

VA Form10-382—VCAP Reimbursement Claim Form: This form will be used by the veteran individual to request reimbursement for the cost of child care at licensed non-VA child care facilities. Reimbursement for child care services is limited to the time required for the veteran's health care appointment and travel to/from the eligible child care provider.

Total Annual Burden: 215,639 hours.

Total Annual Responses: 4,174,528.

VA Form 10-380:

Affected Public: Individuals or Households.

Estimated Annual Burden: 70,400 hours.

Estimated Average Burden per Respondent: 15 minutes.

Frequency of Response: Once annually.

Estimated Number of Respondents: 281,600.

VA Form 10-381:

Affected Public: Individuals or Households.

Estimated Annual Burden: 125,895 hours.

Estimated Average Burden per Respondent: 2 minutes.

Frequency of Response: 13 times annually.

Estimated Number of Respondents: 290,528.

VA Form 10-382:

Affected Public: Individuals or Households.

Estimated Annual Burden: 19,344 hours.

Estimated Average Burden per Respondent: 10 minutes.

Frequency of Response: 13 times annually.

Estimated Number of Respondents: 8,928.

Authority: 44 U.S.C. 3501 et seq.

Maribel Aponte,
VA PRA Clearance Officer, Office of Enterprise and Integration/Data Governance Analytics, Department of Veterans Affairs.

[FR Doc. 2024-17353 Filed 8-5-24; 8:45 am]

BILLING CODE 8320-01-P